Title 3—

The President

Proclamation 10812 of September 16, 2024

Constitution Day and Citizenship Day, and Constitution Week, 2024

By the President of the United States of America

A Proclamation

It has been said that, when he was leaving the Constitutional Convention, Benjamin Franklin was asked whether the Founding Fathers had given America a monarchy or a republic, and he replied: “A republic, if you can keep it.” The Founders put the power to decide our Nation's future in the hands of “We the People.” On Constitution Day and Citizenship Day, and during Constitution Week, we recommit to preserving our republic, perfecting our Union, and ensuring our democracy survives and thrives.

Our Constitution established that our Nation would be a democracy, meaning the rule of the people—not of monarchs, the monied, or the mighty. It gave us the separation of powers and checks and balances so that we would be a country that respects the institutions that govern a free society. And it remains the bulwark to prevent the abuse of power and ensures that “We the People” move forward together under the law. We are all responsible for maintaining our democracy—not only by adhering to the Constitution but also by our character and the habits of our hearts and minds. All of us must join the march to perfect our Union by protecting and expanding our rights with each successive generation.

I believe America is at an inflection point, one of those rare moments in history when the decisions we make now will determine the fate of our Nation and the world for decades to come. That is why we must continue to protect the rights guaranteed by our Constitution and the values that make our Nation who we are. We must protect the right to vote—it is the threshold of democracy: with it, anything is possible, and without it, nothing is. Vice President Harris and I continue to call on the Congress to pass the Freedom to Vote Act and the John Lewis Voting Rights Advancement Act to expand voting rights and prevent voter suppression. We will continue to work to protect women's reproductive freedoms and their constitutional right to choose. We continue to call on the Congress to restore the protections of Roe v. Wade in Federal law once and for all. And we will continue to preserve and strengthen our democracy and will never walk away from the values that have made us the greatest Nation in the history of the world: freedom and liberty.

Today, we also celebrate the rights and responsibilities of citizenship. From those who were born in this country to our naturalized citizens, America remains a great country because we are a good people. We are a Nation of promise and possibilities, of dreamers and doers, and of ordinary Americans doing extraordinary things. May we welcome our Nation's newest citizens, whose stories embody the hope of the American Dream and whose contributions strengthen our country.

On Constitution Day and Citizenship Day, and during Constitution Week, we recognize that the power to build a freer, more prosperous, and more just future lies in the hands of the American people. And we recommit to fulfilling the sacred tasks of our time—to ensure democracy prevails and to preserve our constitutional protections for generations to come.

To honor the timeless principles enshrined in our Constitution, the Congress has, by joint resolution of February 29, 1952 (36 U.S.C. 106), designated September 17 as “Constitution Day and Citizenship Day” and authorized the President to issue a proclamation calling on United States officials to display the flag of the United States on all Government buildings on that day. By joint resolution of August 2, 1956 (36 U.S.C. 108), the Congress further requested that the President proclaim the week beginning September 17 and ending September 23 of each year as “Constitution Week.”

NOW, THEREFORE, I, JOSEPH R. BIDEN JR., President of the United States of America, by virtue of the authority vested in me by the Constitution and the laws of the United States, do hereby proclaim September 17, 2024, as Constitution Day and Citizenship Day, and September 17 through September 23 as Constitution Week. On this day and during this week, we celebrate our Constitution and the rights of citizenship that we enjoy together as the proud people of this Nation.

IN WITNESS WHEREOF, I have hereunto set my hand this sixteenth day of September, in the year of our Lord two thousand twenty-four, and of the Independence of the United States of America the two hundred and forty-ninth.

[FR Doc. 2024-21565

Filed 9-18-24; 8:45 am]

Billing code 3395-F4-P